INTERNATIONAL TRADE COMMISSION

[Investigation Nos. 731-TA-1378-1379 (Final)]

Low Melt Polyester Staple Fiber (PSF) From Korea and Taiwan; Revised Schedule for Final Investigations

AGENCY: United States International Trade Commission.

ACTION: Notice.

APPLICABLE DATE: May 2, 2018.

FOR FURTHER INFORMATION CONTACT: Christopher W. Robinson (202-205-2542), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On February 2, 2018, the Commission established a schedule for the conduct of the final phase investigations of low melt PSF from Korea and Taiwan. On February 26, 2018, the schedule was published in the Federal Register (83 FR 8295). The Commission is revising its schedule.

The Commission's new schedule for these investigations is as follows: Requests to appear at the hearing must be filed with the Secretary to the Commission not later than June 14, 2018; the prehearing conference will be held at the U.S. International Trade Commission building on June 14, 2018, if deemed necessary; the prehearing staff report will be placed in the nonpublic record on May 31, 2018; the deadline for filing prehearing briefs is June 7, 2018; the hearing will be held at the U.S. International Trade Commission building at 9:30 a.m. on June 19, 2018; the deadline for filing posthearing briefs is June 26, 2018; the Commission will make its final release of information on July 13, 2018; and final party comments are due on July 17, 2018.

For further information concerning these investigations see the Commission's notice cited above and the Commission's Rules of Practice and Procedure, part 201, subparts A through E (19 CFR part 201), and part 207, subparts A, D, E, and F (19 CFR part 207).

Authority: These investigations are being conducted under authority of title VII of the Tariff Act of 1930; this notice is published pursuant to section 207.21 of the Commission's rules.

By order of the Commission.
Issued: May 3, 2018.
Katherine Hiner,
Supervisory Attorney.

[FR Doc. 2018-09819 Filed 5-8-18; 8:45 am]

BILLING CODE P